Title 3—

The President

Memorandum of October 10, 2012

Delegation of Functions to the Secretary of State To Support Assistance by International Financial Institutions for Burma

Memorandum for the Secretary of State

By the authority vested in me as President by the Constitution and the laws of the United States of America, including section 301 of title 3, United States Code, I hereby delegate to you the functions of the President under section 1 of H.R. 6431, 112th Congress (2012), an act to “provide flexibility with respect to United States support for assistance provided by international financial institutions for Burma, and for other purposes,” which I signed into law on October 5, 2012.

You are authorized and directed to publish this memorandum in the Federal Register.

THE WHITE HOUSE,

Washington, October 10, 2012

[FR Doc. 2012-26637

Filed 10-26-12; 8:45 am]

Billing code 4710-10